DEPARTMENT OF THE INTERIOR

Fish and Wildlife Service

Notice of Intent To Acquire Additional Habitat for Hobe Sound National Wildlife Refuge in St. Lucie and Martin Counties, FL

AGENCY: Fish and Wildlife Service, Department of the Interior.

ACTION: Notice of intent to acquire additional habitat for Hobe Sound National Wildlife Refuge.

SUMMARY: This notice advises the public that the U.S. Fish and Wildlife Service, Southeast Region, has prepared a Decision Report that proposes to acquire approximately 149 acres of additional wildlife habitat for Hobe Sound National Wildlife Refuge in St. Lucie and Martin Counties, along the southeastern Atlantic coast in Florida. The purpose of the project is to protect and manage additional beachfront and upland sand pine-scrub habitats for the benefit of many species of wildlife, including federally listed threatened species such as the wood stork, Florida scrub jay, piping plover, loggerhead sea turtle, eastern indigo snake, and four-petal pawpaw, as well as federally listed endangered species including the leatherback and green sea turtles and Lakela's mint. Other species of wildlife native to the south Florida area would also benefit from the proposed refuge additions.

A Decision Report was prepared for this project because it is categorically excluded from the requirement of preparing an environmental assessment or environmental impact statement in accordance with the provisions of the National Environmental Policy Act (NEPA). This categorical exclusion is based on the small size of the proposed refuge additions (149 acres), the general public support of the project, and the willingness of the affected landowners to sell or transfer their lands to the Service for inclusion as part of Hobe Sound National Wildlife Refuge.

DATES: The Decision Report was approved by the Director of the Fish and Wildlife Service on July 4, 2001.

ADDRESSES: The Decision Report is available for public inspection at the U.S. Fish and Wildlife Service, Southeast Regional Office, Land Acquisition Planning Branch, 1875 Century Boulevard, Atlanta, Georgia 30345. Written requests for copies of the Decision Report should be sent to Mr. Charles Danner, Team Leader, at the same address. Mr. Danner can also be contacted by telephone at 1-800-419-9582.

SUPPLEMENTARY INFORMATION: The proposal refuge additions are located in St. Lucie and Martin Counties, Florida, and consist of four separate areas near the refuge. Area 1 (4 acres) and Area 2 (65 acres) are adjacent to the refuge. Area 3 (70 acres) is located on Hutchinson Island about 20 miles north of the refuge. Area 4 (10 acres) is located about 45 miles north of the refuge near Vero Beach. These four areas total approximately 149 acres. The Service is proposing to acquire these lands through a combination of fee title purchases from willing sellers and leases, conservation easements, or cooperative agreements from willing landowners.

The primary objective of acquiring the project lands is to protect and maintain some of the most productive nesting habitats of the endangered leatherback and green sea turtles and threatened loggerhead sea turtle, as well as habitat for a number of other endangered and threatened species including the wood stork, Florida scrub jay, piping plover, eastern indigo snake, four-petal pawpaw, and Lakela's mint.

Dated: July 4, 2001.
Marshall P. Jones, Jr.,
Acting Director, Fish and Wildlife Service.

[FR Doc. 01-19053 Filed 7-30-01; 8:45 am]

BILLING CODE 4310-55-P